ENVIRONMENTAL PROTECTION AGENCY

40 CFR Part 52

[EPA-R10-OAR-2015-0333; FRL-9962-50-Region 10]

Approval and Promulgation of Implementation Plans; Oregon: Permitting and General Rule Revisions; Reopening of Comment Period

AGENCY: Environmental Protection Agency (EPA).

ACTION: Proposed rule; reopening of comment period.

SUMMARY: The Environmental Protection Agency (EPA) is reopening the public comment period on the proposed rule “Approval and Promulgation of Implementation Plans; Oregon: Permitting and General Rule Revisions” published March 22, 2017. A commenter requested more time to review the proposal and prepare comments. In response, the EPA is providing an additional 30 days for public comment.

DATES: For the proposed rule published March 22, 2017 (82 FR 14654), comments must be received on or before June 29, 2017.

ADDRESSES: Submit your comments, identified by Docket ID No. EPA-R10-OAR-2015-0333, at https://www.regulations.gov. Follow the online instructions for submitting comments. Once submitted, comments cannot be edited or removed from regulations.gov. The EPA may publish any comment received to its public docket. Do not electronically submit Confidential Business Information (CBI) or other information that is restricted from disclosure by statute. Please note that multimedia submissions (audio, video, etc.) must be accompanied by a written comment. The written comment is considered the official comment and should include discussion of all points you wish to make. The EPA will generally not consider comments or comment contents located outside of the primary submission (i.e. on the web, cloud, or other file sharing system). For additional submission methods, the full EPA public comment policy, information about CBI or multimedia submissions, and general guidance on making effective comments, please visit https://www.epa.gov/dockets/commenting-epa-dockets.

FOR FURTHER INFORMATION CONTACT: Kristin Hall, Air Planning Unit, Office of Air and Waste (OAW-150), Environmental Protection Agency—Region 10, 1200 Sixth Ave. Seattle, WA 98101; telephone number: (206) 553-6357; email address: hall.kristin@epa.gov.

SUPPLEMENTARY INFORMATION: On March 22, 2017, the EPA published a proposed rule to approve changes to the Oregon State Implementation Plan (82 FR 14654). The changes, submitted by the State of Oregon on April 22, 2015, account for new federal requirements for fine particulate matter, update the major and minor source pre-construction permitting programs, and add state level air quality designations. The changes also address public notice procedures for informational meetings, and tighten emission standards for dust and smoke. A commenter requested more time to review the proposal and prepare comments. In response to this request, the EPA is reopening the public comment period.

Dated: April 26, 2017.
Michelle L. Pirzadeh,
Acting Regional Administrator, Region 10.

[FR Doc. 2017-10935 Filed 5-26-17; 8:45 am]

BILLING CODE 6560-50-P